NATIONAL SCIENCE FOUNDATION

Advisory Committee for Mathematical and Physical Sciences; Notice of Meeting

In accordance with the Federal Advisory Committee Act (Pub., L. 92-463, as amended), the National Science Foundation announces the following meeting:

NAME: Advisory Committee for Mathematical and Physical Sciences (#66).

DATE/TIME: January 23, 2015: 9:00 a.m. to 5:00 p.m.

PLACE: National Science Foundation, 4201 Wilson Boulevard, Suite 1235, Arlington, Virginia 22230.

To help facilitate your entry into the building, contact Sara Dwyer (sdwyer@nsf.gov). Your request should be received on or prior to January 16, 2014.

Virtual attendance will be supported. For detailed instructions, visit the meeting Web site at http://www.nsf.gov/events/event_summ.jsp?cntn_id=130169&org=MPS.

TYPE OF MEETING: OPEN, VIRTUAL.

CONTACT PERSON: Eduardo Misawa, National Science Foundation, 4201 Wilson Boulevard, Suite 1005, Arlington, Virginia 22230, 703-292-5353 and Sara Dwyer, National Science Foundation, 4201 Wilson Boulevard, Suite 1005, Arlington, Virginia 22230, 703-292-4934.

Minutes: Meeting minutes and other information may be obtained from the Staff Associate and MPSAC Designated Federal Officer at the above address or the Web site at http://www.nsf.gov/mps/advisory.jsp.

PURPOSE OF MEETING: To study data, programs, policies, and other information pertinent to the National Science Foundation and to provide advice and recommendations concerning research in mathematics and physical sciences.

Agenda

• State of the Directorate for Mathematical and Physical Sciences (MPS): Challenges and Opportunities

• Reports from current subcommittees

• Public-Private Partnerships

• Report from MPS Liaisons to NSF Advisory Committees

Dated: December 18, 2014.
Suzanne Plimpton,
Acting Committee Management Officer.

[FR Doc. 2014-30038 Filed 12-23-14; 8:45 am]

BILLING CODE 7555-01-P